DEPARTMENT OF TRANSPORTATION

Pipeline and Hazardous Materials Safety Administration

[Docket No. RSPA-2005-20036 (Notice No. 05-1)]

Information Collection Activities

AGENCY: Pipeline and Hazardous Materials Safety Administration (PHMSA), DOT.

ACTION: Notice and request for comments.

SUMMARY: In accordance with the Paperwork Reduction Act of 1995, PHMSA invites comments on certain information collections pertaining to hazardous materials transportation for which PHMSA intends to request renewal from the Office of Management and Budget (OMB).

DATES: Interested persons are invited to submit comments on or before June 13, 2005.

ADDRESSES: You may submit comments to Docket Number RSPA-2005-20036 (Notice No. 05-1) by any of the following methods:

• Federal eRulemaking Portal: Go to http://www.regulations.gov. Follow the online instructions for submitting comments.

• Web site: http://dms.dot.gov. Follow the instructions for submitting comments on the DOT electronic docket site.

• Fax: 202-493-2251.

• Mail: Docket Management System; U.S. Department of Transportation, 400 Seventh Street, SW., Nassif Building, Room PL-401, Washington, DC 20590-0001.

• Hand Delivery: Docket Management System; Room PL-401 on the plaza level of the Nassif Building, 400 Seventh Street, SW., Washington, DC, between 9 a.m. and 5 p.m., Monday through Friday, except Federal Holidays.

Instructions: All submissions must include the agency name and docket number or Regulatory Identification Number (RIN) for this rulemaking. Comments should identify the docket number [(RSPA-2005-20036) (Notice No.05-1)]. If sent by mail, comments are to be submitted in duplicate. Persons wishing to receive confirmation of receipt of their comments should include a self-addressed stamped postcard. Internet users may access all comments received by the Department of Transportation at http://dms.dot.gov. Requests for a copy of an information collection should be directed to Deborah Boothe or T. Glenn Foster, Office of Hazardous Materials Standards (DHM-11), Pipeline and Hazardous Materials Safety Administration, Room 8430, 400 Seventh Street, SW., Washington, DC 20590-0001, Telephone (202) 366-8553.

FOR FURTHER INFORMATION CONTACT: Deborah Boothe or T. Glenn Foster, Office of Hazardous Materials Standards (DHM-11), Pipeline and Hazardous Materials Safety Administration, Room 8430, 400 Seventh Street, SW., Washington, DC 20590-0001, Telephone (202) 366-8553.

SUPPLEMENTARY INFORMATION: Section 1320.8 (d), Title 5, Code of Federal Regulations requires that PHMSA provide interested members of the public and affected agencies an opportunity to comment on information collection and recordkeeping requests. This notice identifies an information collection PHMSA is submitting to OMB for renewal and extension. This information collection is contained in the Hazardous Materials Regulations (HMR; 49 CFR Parts 171-180). PHMSA has revised burden estimates, where appropriate, to reflect current reporting levels or adjustments based on changes in proposed or final rules published since the information collection was last approved. The following information is provided for each information collection: (1) Title of the information collection, including former title if a change is being made; (2) OMB control number; (3) summary of the information collection activity; (4) description of affected public; (5) estimate of total annual reporting and recordkeeping burden; and (6) frequency of collection. PHMSA will request a three-year term of approval for each information collection activity and, when approved by OMB, publish notice of the approval in the Federal Register.

PHMSA requests comments on the following information collection:

Title: Testing, Inspection, and Marking Requirements for Cylinders.

OMB Control Number: 2137-0022.

Summary: Requirements in § 180.201 of the HMR for qualification, maintenance and use of cylinders require cylinders to be periodically requalified to ensure continuing compliance with packaging standards. Information collection requirements address approval and registration of cylinder requalifiers, and marking and certification of cylinders in accordance with the requirements in Part 180 of the HMR. Records showing the results of inspections and retests must be retained by the person who performs the requalification until expiration of the retest period, or until the cylinder is reinspected or retested, whichever occurs first. These requirements are intended to ensure that requalifiers possess the qualifications necessary to perform tests, and to identify to cylinder fillers and users that these cylinders are qualified for continuing use. Information collection requirements in § 173.303 require that for acetylene cylinders, each day, the pressure in a cylinder representative of that day's compression must by checked by the charging plant after the cylinder has cooled to a settled temperature and a record of this test kept for at least 30 days.

Affected Public: Fillers, owners, users and requalifiers of reusable cylinders.

Recordkeeping:

Number of Respondents: 139,352.

Total Annual Responses: 153,287.

Total Annual Burden Hours: 168,431.

Frequency of Collection: On occasion.

Issued in Washington, DC, on April 8, 2005.
Susan Gorsky,
Acting Director, Office of Hazardous Materials Standards.

[FR Doc. 05-7530 Filed 4-13-05; 8:45 am]

BILLING CODE 4910-60-P